DEPARTMENT OF ENERGY

Federal Energy Regulatory Commission

[Docket No. CP01-415-000]

East Tennessee Natural Gas Company; Notice of Certificate Application

August 3, 2001.

Take notice that on July 26, 2001, East Tennessee Natural Gas Company (East Tennessee), 5400 Westheimer Court, Houston, Texas 77056-5310, filed an application for a certificate of public convenience and necessity pursuant to Section 7 of the Natural Gas Act, as amended, and the Federal Energy Regulatory Commission's (the Commission) Rules and Regulations thereunder. East Tennessee requests authorization to construct, install, own, operate and maintain certain facilities (Patriot Project) to provide up to 510,000 dekatherms per day (Dth/d) of firm natural gas transportation service, all as more fully set forth in the application, which is on file with the Commission, and open for public inspection. This filing may be viewed on the web at http://www.ferc.gov using the “RIMS” link, select “Docket #” and follow the instructions (call 202-208-2222 for assistance). Following its open season, East Tennessee contracted for firm transportation service with seven shippers (Patriot Shippers): NUI Energy Brokers, Inc.; Carolina Power & Light Company; Public Service Company of North Carolina, Inc.; United Cities Gas Company; Henry County Power, LLC; Duke Energy Wythe, LLC; and, Duke Energy Murray, LLC.

The facilities will consist of: (i) a Mainline Expansion, which involves improvements along East Tennessee's existing pipeline in Tennessee and Virginia, including (a) approximately 84.98 miles of pipeline loops (in Franklin, Grundy, Hamilton, Knox, Sequatchie and Sullivan Counties, Tennessee and Smyth, Washington, and Wythe Counties, Virginia), (b) approximately 24.67 miles of new 24-inch diameter pipeline to replace existing smaller diameter pipeline (in Smyth, Washington and Wythe Counties, Virginia), (c) hydrostatic testing of approximately 77.34 miles of existing pipeline to increase the maximum allowable operating pressure of the pipeline, (d) five new compressor stations (in Fentress, Greene, Hamilton, Jackson, and Jefferson Counties, Tennessee) and changes at six existing compressor stations (in Washington and Wythe Counties, Virginia and Morgan, Sevier and Sullivan Counties, Tennessee), and (e) associated mainline valves, piping, and appurtenant pipeline facilities; and (ii) an Extension, which includes (a) approximately 93.56 miles of new 24-inch diameter pipeline extending (through Wythe, Carroll, Patrick, Floyd, and Henry Counties, Virginia) from the East Tennessee mainline in Virginia to a new terminus at an interconnection to Transcontinental Pipeline Corporation's mainline in Rockingham County, North Carolina, (b) approximately 7.04 miles of new 16-inch diameter pipeline extending from the new pipeline extension (through Pittsylvania County, Virginia) to a power plant under development by Henry County Power, LLC, in Henry County, Virginia, (c) three new meter stations, and (d) associated valves and appurtenant pipeline facilities.

East Tennessee requests that the Commission issue a preliminary determination by November 15, 2001 and a final certificate by March 27, 2002 to enable East Tennessee to meet the first of its Patriot Shippers' in-service dates of May 1, 2003. The cost of the facilities is estimated to be approximately $289 million. Firm transportation service of up to 510,000 Dth/d will be rendered to the Patriot Shippers pursuant to East Tennessee's Rate Schedule FT-A. The Patriot Shippers will pay incremental rates to compensate East Tennessee for the costs of the Patriot Project facilities.

Questions regarding this filing should be directed to Steven E. Tillman, Director of Regulatory Affairs, East Tennessee Natural Gas Company, P.O. Box 1642, Houston, Texas 77251-1642, call 713-627-5113, fax 713-627-5947.

There are two ways to become involved in the Commission's review of this project. First, any person wishing to obtain legal status by becoming a party to the proceedings for this project should, on or before August 24, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the certificate is required by the public convenience and necessity. If a petition for leave to intervene is timely filed, or if the Commission, on its own motion believes that a formal hearing is required, further notice of such hearing will be duly given. Under the procedure herein provided for, unless otherwise advised, it will be unnecessary for Applicant to appear or be represented at the hearing.

Comments, protests and interventions may be filed electronically via the Internet in lieu of paper. See, 18 CFR 385.2001(a)(1)(iii) and the instructions on the Commission's web site under the “e-Filing” link.

David P. Boergers,
Secretary.

[FR Doc. 01-19983 Filed 8-8-01; 8:45 am]

BILLING CODE 6717-01-P